DEPARTMENT OF STATE

[Public Notice 5125]

30-Day Notice of Proposed Information Collection: DS-5504, U.S. Passport Re-Application Form, OMB Control Number 1405-0160

ACTION: Notice of request for public comment and submission to OMB of proposed collection of information.

SUMMARY: The Department of State has submitted the following information collection request to the Office of Management and Budget (OMB) for approval in accordance with the Paperwork Reduction Act of 1995.

• Title of Information Collection: U.S. Passport Re-Application Form.

• OMB Control Number: 1405-0160.

• Type of Request: New collection.

• Originating Office: CA/PPT/FO/FC.

• Form Number: DS-5504.

• Respondents: Individuals or households.

• Estimated Number of Respondents: 50,000 per year.

• Estimated Number of Responses: 50,000 per year.

• Average Hours Per Response: 30 minutes.

• Total Estimated Burden: 25,000 hours per year.

• Frequency: On occasion.

• Obligation to Respond: Required to obtain or retain a benefit.

DATES: Submit comments to the Office of Management and Budget (OMB) for up to 30 days from July 5, 2005.

ADDRESSES: Direct comments and questions to Katherine Astrich, the Department of State Desk Officer in the Office of Information and Regulatory Affairs at the Office of Management and Budget (OMB), who may be reached at 202-395-4718. You may submit comments by any of the following methods:

• E-mail: Katherine_T._Astrich@omb.eop.gov. You must include the DS form number, information collection title, and OMB control number in the subject line of your message.

• Mail (paper, disk, or CD-ROM submissions): 725 17th Street, NW., Washington, DC 20503.

• Fax: 202-395-6974.

FOR FURTHER INFORMATION CONTACT: You may obtain copies of the proposed information collection and supporting documents from, Susan Cowlishaw (2100 Pennsylvania Ave., NW., 3rd Floor, Washington, DC 20037), who may be reached on 202-261-8957 or at Cowlishawsc@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The information collected on the DS-5504 is used to facilitate the issuance of passports to U.S. citizens and nationals. The U.S. Passport Re-Application Form is being introduced because, with the introduction of the “electronic passport,” it will no longer be possible to amend valid U.S. passports. Instead of seeking an amendment, a passport holder whose name has changed; who needs correction of descriptive information on the data page of the passport; or who wishes to obtain a fully-valid passport after obtaining a full-fee one-year emergency passport abroad would be permitted to re-apply for a new passport at no charge within one year of the date of issuance of the original passport. The electronic passport will contain a chip that contains the information from the data page of the passport. Since the data page and the information contained on the chip must match, the above situations will require that new passports be issued.

Methodology

Passport Services collects information from U.S. citizens and non-citizen nationals when they complete and submit the U.S. Passport Re-Application Form. Passport applicants can either download the form from the Internet or obtain one from an Acceptance Facility/Passport Agency. The form must be completed and then signed. The form is then submitted along with the original passport and relevant documentation supporting the applicant's name change, citizenship, and/or biographical facts.

Dated: June 17, 2005.
Ann Barrett,
Acting Deputy Assistant Secretary for Passport Services, Bureau of Consular Affairs, Department of State.

[FR Doc. 05-13106 Filed 7-1-05; 8:45 am]

BILLING CODE 4710-06-P